DEPARTMENT OF HEALTH AND HUMAN SERVICES

Centers for Medicare & Medicaid Services

[Document Identifier: CMS-10275]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New collection; Title of Information Collection: CAHPS Home Health Care Survey: Use: As part of the Department of Health and Human Services (DHHS) Transparency Initiative on Quality Reporting, CMS plans to implement a process to measure and publicly report home health care patient experiences through the CAHPS (Consumer Assessment of Healthcare Providers and Systems) Home Health Care Survey. The Home Health Care CAHPS survey, as initially discussed in the May 4, 2007 Federal Register (72 FR 25356, 25452), is part of a family of CAHPS ® surveys that ask patients about their health care experiences. The Home Health Care CAHPS survey, developed by the Agency for Healthcare Research and Quality (AHRQ), creates a standardized survey for home health patients to assess their home health care providers and the quality of their home health care. Prior to this survey, there was no national standard for collecting such information that would allow comparisons across all home health agencies.

AHRQ conducted a field test to determine the length and content of the Home Health Care CAHPS Survey. CMS has submitted the survey to the National Quality Forum (NQF) for consideration and approval in their consensus process. NQF endorsement represents the consensus opinion of many healthcare providers, consumer groups, professional organizations, purchasers, Federal agencies, and research and quality organizations. The final survey will also be submitted to the Office of Management and Budget (OMB) for their approval under the Paperwork Reduction Act (PRA) process.

The survey captures topics such as patients' interactions with the agency, access to care, interactions with home health staff, provider care and communication, and patient characteristics. The survey allows the patient to give an overall rating of the agency, and asks if the patient would recommend the agency to family and friends.

CMS is beginning plans for implementation of Home Health Care CAHPS Survey. Administration of the survey will be conducted by multiple, independent survey vendors working under contract with home health agencies to facilitate data collection and reporting. Recruitment and training of vendors who wish to be approved to collect Home Health Care CAHPS data will begin in 2009. Home health agencies interested in learning about the survey and/or voluntarily participating in the survey are encouraged to view the Home Health Care CAHPS Web site: http://www.homehealthCAHPS.org. Information about the project can also be obtained by sending an e-mail to HHCAHPS@rti.org.

Home health agency participation in the Home Health Care CAHPS Survey is currently voluntary. Form Number: CMS-10275 (OMB# 0938-New); Frequency: Semi-annually, once and occasionally; Affected Public: Individuals or households; Number of Respondents: 2,706,000; Total Annual Responses: 2,706,000; Total Annual Hours: 541,200. (For policy questions regarding this collection contact Elizabeth Goldstein at 410-786-6665. For all other issues call 410-786-1326.)

To obtain copies of the supporting statement and any related forms for the proposed paperwork collections referenced above, access CMS Web Site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received by the OMB desk officer at the address below, no later than 5 p.m. on May 11, 2009.

OMB, Office of Information and Regulatory Affairs, Attention: CMS Desk Officer, Fax Number: (202) 395-6974, e-mail: OIRA_submission@omb.eop.gov.

Dated: April 3, 2009.
Michelle Shortt,
Director, Regulations Development Group, Office of Strategic Operations and Regulatory Affairs.

[FR Doc. E9-8223 Filed 4-9-09; 8:45 am]

BILLING CODE 4120-01-P